DEPARTMENT OF ENERGY

Federal Energy Regulatory Commission

Notice of FERC Staff Attendance at Southwest Power Pool Board of Directors/Members Committee Meetings and Southwest Power Pool Regional State Committee Meeting

May 24, 2007.

The Federal Energy Regulatory Commission hereby gives notice that members of its staff may attend the meetings of the Southwest Power Pool (SPP) Board of Directors, SPP Members Committee and SPP Regional State Committee noted below. Their attendance is part of the Commission's ongoing outreach efforts.

Board of Directors

June 11, 2007-11 a.m.-5 p.m. (CST), June 12, 2007-8:30 a.m.-5 p.m. (CST), The Peabody Little Rock, 3 Statehouse Plaza, Little Rock, AR 72201, 501-375-5000.

Board of Directors/Members Committee

July 24, 2007-8 a.m.-3 p.m. (CST), Marriott Country Club Plaza, 4445 Main Street, Kansas City, MS 64111, 816-531-3000.

SPP Regional State Committee

July 23, 2007 (Time TBD), Marriott Country Club Plaza, 4445 Main Street, Kansas City, MS 64111, 816-531-3000.

The discussions may address matters at issue in the following proceedings:

Docket No. ER04-1232, Southwest Power Pool, Inc.

Docket No. ER05-799, Southwest Power Pool, Inc.

Docket No. ER05-526, Southwest Power Pool, Inc.

Docket No. ER05-1416, Southwest Power Pool, Inc.

Docket No. EL06-83, Southwest Power Pool, Inc.

Docket No. ER06-432, Southwest Power Pool, Inc.

Docket No. ER06-448, Southwest Power Pool, Inc.

Docket No. ER06-451, Southwest Power Pool, Inc.

Docket No. ER06-1047, Southwest Power Pool, Inc.

Docket No. ER06-767, Southwest Power Pool, Inc.

Docket Nos. ER06-1485 and ER07-266, Xcel Energy Services, Inc.

Docket No. ER06-1488, Oklahoma Gas & Electric Company

Docket No. ER06-1463, Empire District Electric Company

Docket No. ER07-385, American Electric Power Service Corporation

Docket No. ER06-1471, Westar Energy, Inc.

Docket No. ER06-1467, Southwest Power Pool, Inc.

Docket No. EL06-71, Associated Electric Cooperative, Inc. v Southwest Power Pool

Docket No. ER07-14, Southwest Power Pool, Inc.

Docket Nos. ER07-211 and ER07-709, Southwest Power Pool, Inc.

Docket No. ER07-314, Southwest Power Pool, Inc.

Docket No. ER07-319, Southwest Power Pool, Inc.

Docket No. ER07-603, Southwest Power Pool, Inc.

Docket No. ER07-734, Southwest Power Pool, Inc.

Docket No. ER07-736, Southwest Power Pool, Inc.

Docket No. ER07-828, Southwest Power Pool, Inc.

Docket No. ER07-886, Southwest Power Pool, Inc.

Docket No. EL07-27, East Texas Electric Cooperative, Inc., et al. and

Docket No. ER07-396, Southwest Power Pool, Inc.

These meetings are open to the public.

For more information, contact John Rogers, Office of Energy Markets and Reliability, Federal Energy Regulatory Commission at (202) 502-8564 or john.rogers@ferc.gov.

Kimberly D. Bose,
Secretary.

[FR Doc. E7-10549 Filed 5-31-07; 8:45 am]

BILLING CODE 6717-01-P